RAILROAD RETIREMENT BOARD

Proposed Data Collection Available for Public Comment and Recommendations

SUMMARY: In accordance with the requirement of section 3506 (c)(2)(A) of the Paperwork Reduction Act of 1995 which provides opportunity for public comment on new or revised data collections, the Railroad Retirement Board will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection

RUIA Claims Notification and Verification System: OMB 3220-0171

Section 5(b) of the Railroad Unemployment Insurance Act, as amended by the Railroad Unemployment Insurance and Retirement Improvement Act of 1988 (Pub. L. 100-647), requires that “when a claim for benefits is filed with the Railroad Retirement Board (RRB), the RRB shall provide notice of such claim to the claimant's base year employer or employers and afford such employer or employers an opportunity to submit information relevant to the claim before making an initial determination on the claim.” The purpose of the claims notification system is to provide to each unemployment and sickness claimant's base year employer or current employer, notice of each application and claim for benefits under the RUIA and to provide an opportunity for employers to convey information relevant to the proper adjudication of the claim. Railroad employers receive notice of applications and claims by one of two options. The first option, Form Letter ID-4K, is a computer generated form letter notice of all unemployment applications, unemployment claims and sickness claims received from employees of a railroad company on a particular day. Form Letters ID-4K are mailed on a daily basis to officials designated by railroad employers. The second option is an Electronic Data Interchange (EDI) version of the Form Letter ID-4K notice. EDI notices of applications are transmitted to participating railroads on a daily basis, generally on the same day that applications are received. Railroad employees can respond to RRB notices of applications and claims manually by mailing a completed ID-4K back to the RRB or electronically via EDI. No changes are being proposed to Form Letter ID-4K.

Estimate of Annual Respondent Burden
RRB messages | Annual responses | Time (min) | Burden (hrs)
ID-4K (EDI version) | 16,100 | ¹ | 377
ID-4K (manual) | 2,500 | 2 | 83
Total | 18,600 |  | 460
¹ The burden for the 9 participating employers who transmit EDI responses is calculated at 10 minutes each per day, 251 workdays a year or 377 total hours of burden.

FOR FURTHER INFORMATION CONTACT: To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 02-3179 Filed 2-8-02; 8:45 am]

BILLING CODE 7905-01-M